SMALL BUSINESS ADMINISTRATION

[Disaster Declaration #10528]

California Disaster #CA-00034 Declaration of Economic Injury

AGENCY: U.S. Small Business Administration.

ACTION: Notice.

SUMMARY: This is a notice of an Economic Injury Disaster Loan (EIDL) declaration for the State of California Disaster #CA-00034 dated July 6, 2006.

Incident: Fishery Resource Disaster.

Incident Period: January 1, 2001 through December 31, 2005.

Effective Date: July 6, 2006.

EIDL Loan Application Deadline Date: April 6, 2007.

ADDRESSES: Submit completed loan applications to: U.S. Small Business Administration, National Processing and Disbursement Center, 14925 Kingsport Road, Fort Worth, TX 76155.

FOR FURTHER INFORMATION CONTACT: A. Escobar, Office of Disaster Assistance, U.S. Small Business Administration, 409 3rd Street, SW., Suite 6050, Washington, DC 20416.

SUPPLEMENTARY INFORMATION: Notice is hereby given that as a result of the fishery resource disaster under 308(b) of Interjurisdictional Fisheries Act of 1986, as amended, to help West Coast fishing communities in Oregon and California as determined by the Secretary of Commerce, applications for economic injury disaster loans may be filed at the address listed above or other locally announced locations.

The following areas have been determined to be adversely affected by the disaster:

Primary Counties:

Del Norte, Humboldt, Marin, Mendocino, Monterey, San Francisco, San Mateo, Santa Cruz, Sonoma.

Contiguous Counties:

California: Alameda, Fresno, Glenn, Kings, Lake, Napa, San Benito, San Luis Obispo, Santa Clara, Siskiyou, Solano, Tehama, Trinity.

Oregon: Curry, Josephine.

The Interest Rate for eligible small businesses is 4.000.

The number assigned is 10528 0.

(Catalog of Federal Domestic Assistance Number 59002)

Herbert L. Mitchell,
Associate Administrator for Disaster Assistance.

[FR Doc. E6-11317 Filed 7-17-06; 8:45 am]

BILLING CODE 8025-01-P